FEDERAL COMMUNICATIONS COMMISSION

Notice of Public Information Collection(s) Being Submitted for Review and Approval to the Office of Management and Budget (OMB), Comments Requested

November 23, 2010.

SUMMARY: As part of its continuing effort to reduce paperwork burden and as required by the Paperwork Reduction Act (PRA) of 1995 (44 U.S.C. 3501-3520), the Federal Communications Commission invites the general public and other Federal agencies to comment on the following information collection. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a valid control number.

DATES: Written Paperwork Reduction Act (PRA) comments should be submitted on or before January 3, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov.). Include in the e-mail the OMB control number of the collection as shown in the SUPPLEMENTARY INFORMATION section below, or if there is no OMB control number, include the Title as shown in the SUPPLEMENTARY INFORMATION section. If you are unable to submit your comments by e-mail, contact the person listed below to make alternate arrangements.

FOR FURTHER INFORMATION CONTACT: For additional information, contact Judith B. Herman at 202-418-0214 or via the Internet at Judith-b.herman@fcc.gov.

SUPPLEMENTARY INFORMATION: OMB Control Number: 3060-0741.

Title: Implementation of the Local Competition Provisions of the Telecommunications Act of 1996, CC Docket No. 96-98, Second Report and Order and Memorandum Opinion and Order; Second Order on Reconsideration; CC Docket No. 99-273, First Report and Order.

Form No.: N/A.

Type of Review: Extension of a currently approved collection.

Respondents: Business or other for-profit.

Number of Respondents: 5,907 respondents; 573,767 responses.

Estimated Time per Response: 1 hour to 547,500 hours.

Frequency of Response: Annual, on occasion, and one time reporting requirements, recordkeeping requirement and third party disclosure requirement.

Obligation to Respond: Required to obtain or retain benefits. Statutory authority for this information collection is contained in 47 U.S.C. 151, 153, 154, 201, 222 and 251.

Total Annual Burden: 574,448 hours.

Total Annual Cost: N/A.

Privacy Act Impact Assessment: N/A.

Nature and Extent of Confidentiality: The Commission is not requesting respondents to submit confidential information to the Commission.

Needs and Uses: The Commission will submit this expiring information collection (IC) to the OMB during this comment period. There is no change in the reporting, recordkeeping and/or third party disclosure requirements. The Commission is reporting a 506,860 hourly increase in burden. The previous estimate for the annual hourly burden of providing public notice of network changes has been recalculated, and has decreased from 36,250 to 806 hours based on a recent count of actual filings. However, the previous estimate for the annual hourly burden of sharing directory listings has been recalculated, and has increased from 6,000 to 547,500 based on a reassessment of how responses to this information collection are currently being provided.

The estimate for the total annual burden reflects an increase in the approximate number of respondents. The estimate reflects the fact that respondents are now more likely to offer daily updates of directory listings in addition to their initial response to a request for directory listings. However, respondents are now more likely to be using advanced IT software, automation, and standardized business practices to respond to a request for the sharing of directory listings, which accounts for their ability to provide a greater number of responses each year with a reduced incremental burden.

In April 1996, the Commission issued a Notice of Proposed Rulemaking (NPRM) concerning certain provisions in the Telecommunications Act of 1996 (“the Act”), including section 251. Section 251 is designed to accelerate private sector development and deployment of telecommunications technologies and services by spurring competition. The Commission adopted rules and regulations designed to implement certain provisions of section 251, and to eliminate operational barriers to competition in the telecommunications services markets.

OMB Control Number: 3060-0798.

Title: FCC Application for Radio Service Authorization: Wireless Telecommunications Bureau and Public Safety and Homeland Security Bureau.

Form No.: FCC Form 601.

Type of Review: Revision of a currently approved collection.

Respondents: Individuals or households; business or other for-profit, not-for-profit institutions, and state, local or tribal government.

Number of Respondents: 253,120 respondents; 253,120 responses.

Estimated Time Per Response: .50 hours to 1.25 hours.

Frequency of Response: On occasion and once every 10 year reporting requirements, recordkeeping requirement and third party disclosure requirement.

Obligation to Respond: Required to obtain or retain benefits. Statutory authority for this information collection is contained in 47 U.S.C. 151, 152, 154(i), 155(c), 157, 201, 202, 208, 214, 301, 302a, 303, 307, 308, 309, 310, 311, 314, 316, 319, 324, 331, 332, 333, 336, 534, and 535.

Total Annual Burden: 221,780 hours.

Total Annual Cost: $55,410,000.

Privacy Act Impact Assessment: Records may include information about individuals or households, e.g., personally identifiable information or PII, and the use(s) and disclosure of this information is governed by the requirements of a system of records notice (SORN), FCC/WTB-1, “Wireless Services Licensing Records”. There are no additional impacts under the Privacy Act.

Nature and Extent of Confidentiality: Respondents may request materials or information submitted to the Commission be withheld from public inspection under 47 CFR 0.459 of the Commission's rules. Information on the FCC Form 601 is maintained in the Commission's SORN, FCC/WTB-1, “Wireless Services Licensing Records.” These licensee records are publicly available and routinely used in accordance with subsection b. of the Privacy Act, 5 U.S.C. 552a(b), as amended. Material that is afforded confidential treatment pursuant to a request made under 47 CFR 0.459 of the Commission's rules will not be available for public inspection.

Needs and Uses: The Commission will submit this expiring information collection (IC) to the OMB during this comment period. There is no change in the reporting, recordkeeping and/or third party disclosure requirements. There are no changes to the Commission's previous burden estimates.

The Commission is seeking a revision for approval from the Office of Management and Budget (OMB) because the Commission will be requesting a certification and/or showing of compliance of narrowband equivalency as an attachment and correcting chief financial officers on Schedule B.

OMB Control Number: 3060-1058.

Title: FCC Application or Notification for Spectrum Leasing Arrangement or Private Commons Arrangement: Wireless Telecommunications Bureau and Public Safety and Homeland Security Bureau.

Form No.: FCC Form 608.

Type of Review: Revision of a currently approved collection.

Respondents: Business or other for-profit, not-for-profit institutions, and state, local or tribal government.

Number of Respondents: 991 respondents; 991 responses.

Estimated Time per Response: 5 hours.

Frequency of Response: On occasion reporting requirement and recordkeeping requirement.

Obligation to Respond: Required to obtain or retain benefits. Statutory authority for this information collection is contained in 47 U.S.C. 151, 154(i), 154(j), 155, 158, 161, 301, 303(r), 308, 309, 310, 332, and 503.

Total Annual Burden: 4,955 hours.

Total Annual Cost: $910,500.

Privacy Act Impact Assessment: N/A.

Nature and Extent of Confidentiality: Respondents may request materials or information submitted to the Commission be withheld from public inspection under 47 CFR 0.459 of the Commission's rules.

Needs and Uses: The Commission will submit this expiring information collection (IC) to the OMB during this comment period. There is no change in the reporting and/or recordkeeping requirements. The Commission is reporting a 3,200 hourly decrease in burden and a $423,606 decrease in annual costs. The decrease adjustments are due to fewer respondents than the last submission to the OMB and the estimates have been recalculated.

The Commission is seeking OMB approval for a revision for changes in the wording on the FCC Form 608 data elements, adding a question inquiring if filing is the lead application on the Main Form, and changing language in the instructions.

The required notifications and applications will provide the Commission with useful information about spectrum usage and help to ensure that licensees and lessees are complying with Commission interference and non-interference related policies and rules. Similar information and verification requirements have been used in the past for licensees operating under authorizations, and such requirements will serve to minimize interference, verify that lessees are legally and technically qualified to hold licenses, and ensure compliance with Commission rules.

Federal Communications Commission.
Marlene H. Dortch,
Secretary.

[FR Doc. 2010-30183 Filed 11-30-10; 8:45 am]

BILLING CODE 6712-01-P